COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds services to the Procurement List that will be provided by nonprofit agencies employing persons who are blind or have other severe disabilities.

DATES: Effective Date: September 10, 2012.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or email CMTEFedReg@AbilityOne.gov.

SUPPLEMENTARY INFORMATION:

Additions

On 6/8/2012 (77 FR 34026-34027) and 6/15/2012 (77 FR 35942-35944), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 8501-8506) in connection with the services proposed for addition to the Procurement List.

End of Certification

Accordingly, the following services are added to the Procurement List:

Services

Service Type/Location: Custodial Service, National Weather Service, Ohio River Forecast Center, 1901 S. State Route 134, Wilmington, OH.

NPA: Goodwill Easter Seals Miami Valley, Dayton, OH

Contracting Activity: Dept of Commerce, National Oceanic and Atmospheric Administration, Norfolk, VA

Service Type/Location: Custodial Service, Federal Aviation Administration (FAA), EWR Tower Simulation System (TSS) Room, North Cargo Building 157, Liberty International Airport, 10 Tolar Pl., Newark, NJ.

NPA: North Jersey Friendship House, Inc., Hackensack, NJ

Contracting Activity: Dept of Transportation, Federal Aviation Administration, Jamaica, NY

Service Type/Locations: Custodial Services, Cherry Capital Airport System Support Center, General Aviation Terminal Building, 1220 Airport Access Road, 2nd Floor, Traverse City, MI.

Cherry Capital Airport Air Traffic Control Center, 1330 Airport Access Road, Traverse City, MI.

NPA: Grand Traverse Industries, Inc., Traverse City, MI

Contracting Activity: Dept of Transportation, Federal Aviation Administration, Des Plaines, MI

Service Type/Locations: Custodial Service, Department of Health and Human Services (DHHS), Supply Service Center, Buildings 5 and 14, Perry Point, MD.

NPA: Alliance, Inc., Baltimore, MD

Contracting Activity: Dept of Health and Human Services, Health Resources and Services Administration, Perry Point, MD

Service Type/Location: Custodial Service, Aseptic Level, Veterinary Treatment Facility, 413 Myers Street, Shaw AFB, SC.

NPA: Goodwill Industries of Lower South Carolina, Inc., North Charleston, SC

Contracting Activity: Dept of the Air Force, FA4803 20 CONS LGCA, Shaw Air Force Base, SC

Service Type/Location: Custodial Services, Vandenberg AFB, CA.

NPA: Goodwill Industries of Southern California, Los Angeles, CA

Contracting Activity: Dept of the Air Force, FA4610 30 CONS LGC, Vandenberg Air Force Base, CA

Service Type/Location: Courier Service, Department of Homeland Security (DHS), Immigrations and Customs Enforcement (ICE), Office of Chief Counsel (OCC), 1545 Hawkins Boulevard, Suite 275, El Paso, TX.

NPA: Training, Rehabilitation, & Development Institute, Inc., San Antonio, TX

Contracting Activity: Department of Homeland Security, U.S. Immigration and Customs Enforcement, Mission Support Orlando, Orlando, FL

Service Type/Location: Custodial Service, MSG Roy P. Benavidez Memorial, U.S. Army Reserve Center (USARC), 6400 Dryer Street, El Paso, TX.

NPA: Let's Go To Work, El Paso, TX

Contracting Activity: Dept of the Army, W6QM MICC-FT Hunter (RC-W), Presidio of Monterey, CA

Service Type/Location: Janitorial Service, Corpus Christi Resident Office, U.S. Army Corps of Engineers (USACE), Southern Area Office (SAO), 1920 N. Chaparral St., Corpus Christi, TX.

NPA: Training, Rehabilitation, & Development Institute, Inc., San Antonio, TX

Contracting Activity: Dept of the Army, W076 ENDIST Galveston, Galveston, TX

Service Type/Location: Secure Document Destruction Service, Navy Sea Systems (NAVSEA), Naval Surface Warfare Center (NSWC) (Offsite: 1611 S. Miller Street, Shelbyville, IN), 300 Highway 361, Building 64, Crane, IN.

NPA: Shares Inc., Shelbyville, IN

Contracting Activity: Dept of the Navy, NSWC Crane, Crane, IN

Service Type/Location: Mailroom Service, National Labor Relations Board, HQ, 1099 14th Street NW., Washington, DC.

NPA: Linden Resources, Inc., Arlington, VA

Contracting Activity: National Labor Relations Board, Washington, DC

Service Type/Location: Janitorial Service, U.S. Army Corps of Engineers (USACE) Kansas City District, Building 234, 750 West Warehouse Road, Fort Leavenworth, KS.

NPA: The Helping Hand of Goodwill Industries Extended Employment SWS, Kansas City, MO

Contracting Activity: Dept of the Army, W071 ENDIST Kansas City, Kansas City, MO

Barry S. Lineback,
Director, Business Operations.

[FR Doc. 2012-19656 Filed 8-9-12; 8:45 am]

BILLING CODE 6353-01-P